DEPARTMENT OF THE INTERIOR

Bureau of Land Management

[L19200000.AL0000.LRORB1518600.LLCAD06000.15X; CACA-044081]

Notice of Intention To Relinquish Lands Withdrawn for Military Purposes; California

AGENCY: Bureau of Land Management, Interior.

ACTION: Notice.

SUMMARY: Pursuant to the National Defense Authorization Act for Fiscal Year 2014, the Department of the Navy has submitted a Notice of Intention to Relinquish 1,958.49 acres of lands in Riverside County, California, withdrawn from the public domain by the California Desert Protection Act of 1994. The lands were withdrawn for military purposes on behalf of the Department of the Navy for the Chocolate Mountain Aerial Gunnery Range.

DATES: Effective Date: December 25, 2015.

FOR FURTHER INFORMATION CONTACT: John R. Kalish, Bureau of Land Management, Palm Springs South Coast Field Office, 1201 Bird Center Drive, Palm Springs, CA 92262; 760-833-7100. Persons who use a telecommunications device for the deaf (TDD) may call the Federal Information Relay Service (FIRS) at (800) 877-8339 to reach the above contact. The FIRS is available 24 hours a day, 7 days a week, to leave a message or question with the above individual. You will receive a reply during normal business hours.

SUPPLEMENTARY INFORMATION: Section 2966(a)(3) of the National Defense Authorization Act for Fiscal Year 2014, Title XXIX of Public Law 113-66 (127 Stat. 1040), requires the Secretary of the Navy to relinquish approximately 2,000 acres of public land withdrawn for military use that is located immediately north of the Bradshaw Trail in Riverside County, California. Pursuant to Section 2922(c) of Public Law 113-66, the Secretary of the Interior is required to publish the Navy's Notice of Intention to Relinquish the public lands withdrawn for military use under Title VIII of Public Law 103-433. In compliance with sections 2922(a) and 2966(a)(3) of Public Law 113-66, on December 8, 2015, the Department of the Navy submitted its Notice of Intention to Relinquish the following described lands:

San Bernardino Meridian, California

T.7S., R.12E.,

Sec. 34, lots 1 and 8.

T.8S., R.12E.,

Sec. 2, lot 1;

Sec. 4, lots 6, 7, and 10 thru 13;

Sec. 6, lots 3 thru 5, and 18 thru 23.

T.7S., R.13E.,

Sec. 22, lots 1, 2, 5 thru 8, 11, and 12;

Sec. 28, lots 4, 5, 8, and 9;

Sec. 32, lots 2 and 3.

T.7S., R.14E.,

Sec. 20, lots 7 and 8;

Sec. 26, lots 1, 2, 4, 5, 7, 8, 10, and 11;

Sec. 28, lots 1, 2, 4, 5, 7, 8, 10, and 11, N½SE¼, and N½SW¼.

T.7S., R.15E.,

Sec. 30, lots 8, 9, 11, 12, 14, 15, 17, and 18;

Sec. 32, lots 1 thru 4, 6, 7, 9, 10, 12, and 13;

Sec. 33, lots 11, 14, 15, 19, 20, and 25, S½SW¼NW¼NW¼, and E½NW¼SW¼NW¼NW¼;

Sec. 34, lots 1 thru 4, 6, and 7.

T.8S., R.15E.,

Sec. 2, lots 1 thru 6, 8 thru 12, 14, 15, and N½SE¼;

Sec. 12, lots 1, 2, 4, 5, 7, 8, 10, and 11.

T.8S., R.16E.,

Sec. 8, lots 1, 2, 4, 5, 7, 8, 10, 11, 13, 14, and SW¼NE¼;

Sec. 14, lots 1 and 2;

Sec. 24, lots 1 and 2.

T.8S., R.17E.,

Sec. 32, lots 1 thru 5, lots 7 thru 9, 11, and 12, and NW¼SW¼.

T.9S., R.17E.,

Sec. 6, lots 3 thru 6 and lots 9 thru 16.

The area described aggregates 1,958.49 acres.

Pursuant to Public Law 113-66, the Department of the Navy is required to decontaminate the public lands being relinquished and returned to the Department of the Interior to be managed by the Bureau of Land Management. The decontamination process has been initiated and the Bureau of Land Management continues to coordinate with the Department of the Navy. It has been determined that the lands may be contaminated with unfired 50 caliber and 20 mm rounds of ammunitions in addition to larger unexploded ordnance. The overall average density of munitions or munitions debris on site appears to be less than 1 pound per acre. The lands have been entered into the Military Munitions Response Program which will further assess risks to the public and identify mitigation measures—protective measures such as increased signage and public education warning of UXO dangers—that may be necessary. Restrictions on excavations may be put into place.

The determination concerning the contaminated state of the land may be found at the Marine Corp Air Station Yuma Environmental Department Web site at http://www.mcasyumaenvironmental.com. This document is posted under the Documents tab. The URL for the document is http://www.mcasyumaenvironmental.com/docs/final_ecp_cmagr_outgrants_14_dec_2015_no_appendices.pdf.

The withdrawal relinquishment notice will be processed in accordance with Public Law 113-66, Section 204 of the Federal Land Policy and Management Act of 1976, (43 U.S.C. 1714), and the Bureau of Land Management regulations set forth in 43 CFR part 2370. Alternatives to the relinquishment may be considered as stated under Section 2922(d)(2) of Public Law 113-66.

Dated: December 21, 2015.
Janice M. Schneider,
Assistant Secretary—Land and Minerals Management.

[FR Doc. 2015-32563 Filed 12-23-15; 8:45 am]

BILLING CODE 3810-FF-P